DEPARTMENT OF THE INTERIOR

Bureau of Land Management

[15XL LLIDB00100 LF1000000.HT0000 LXSS020D0000 241A 4500075005]

Notice of Availability of the Final Owyhee Canyonlands Wilderness and Wild & Scenic Rivers Management Plan, Idaho

AGENCY: Bureau of Land Management, Interior.

ACTION: Notice of availability.

SUMMARY: In accordance with the Wilderness Act of 1964 and the Wild and Scenic Rivers Act of 1968, the Bureau of Land Management (BLM) has signed a Decision Record implementing the Final Owyhee Canyonlands Wilderness and Wild & Scenic Rivers Management Plan (Plan), and by this notice is announcing its availability.

DATES: Any party adversely affected will have 30 days from the date of publication of this notice in the Federal Register to appeal the BLM's decision to the Interior Board of Land Appeals pursuant to 43 CFR part 4.

ADDRESSES: An electronic version of the Plan may be found online at: http://www.blm.gov/id/st/en/prog/nepa_register/Owyhee-wilderness-WSR_plan.html. Interested parties may also view a copy of the Plan at the BLM Owyhee Field Office, 20 First Avenue West, Marsing, Idaho 83639; the BLM Boise District Office, 3948 Development Avenue, Boise, Idaho 83705; the BLM Twin Falls District Office, 2536 Kimberly Road, Twin Falls, Idaho 83301; the BLM Idaho State Office, 1387 South Vinnell Way, Boise, Idaho 83709; and at local libraries in Boise, Gooding, Grand View, Mountain Home, Murphy, and Nampa, Idaho; and Jordan Valley, Oregon.

FOR FURTHER INFORMATION CONTACT: John Sullivan, Wilderness Project Lead, telephone 208-384-3300; address BLM Boise District Office, 3948 Development Avenue, Boise, ID 83705; email jsullivan@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This notice is published in conformance with Sec. 1274(d)(1) of the Wild and Scenic Rivers Act of 1968 (16 U.S.C. 1271-1287). The Owyhee Canyonlands Wilderness and Wild & Scenic Rivers Management Plan establishes the framework for managing approximately 517,000 acres of wilderness and 325 miles of wild and scenic rivers in Owyhee County, southwestern Idaho. The Plan provides direction for actions, land use guidelines and restrictions designed to preserve wilderness character and protect and enhance river values, as mandated by the Wilderness Act (16 U.S.C. 1133(b)) and the Wild and Scenic Rivers Act (16 U.S.C. 1281(a)). The Plan identifies conditions and opportunities that will be managed for at least the next 10 years, or as changes in wilderness character, wild and scenic river values, and/or resource conditions require.

Areas managed by the Plan include: The Big Jacks Creek, Little Jacks Creek, Bruneau-Jarbidge Rivers, North Fork Owyhee, Owyhee River, Pole Creek Wilderness Areas, and the 16 wild and scenic river segments that flow through them.

Public scoping meetings were held in 2011 to inform the public of the regulations and policies associated with wilderness and wild and scenic river management. The BLM solicited input during these meetings, and for several weeks thereafter, concerning wilderness and wild and scenic river-related issues and concerns, as well as the development of alternatives and management actions proposed for the Plan.

The BLM considered and, where appropriate, incorporated public and internal staff comments on the Draft Plan into the Final Plan. Comments resulted in additional clarifying text, as well as refinement of management direction for some activities.

The final Plan includes limitations on the size of groups rafting the wild and scenic rivers, prescriptions regarding the use of temporary hunting blinds, provisions for trapping under State and Federal regulations, and processes to consider the proposed use of motorized and mechanized vehicles and equipment.

Authority: 16 U.S.C. 1274(d)(1), 43 CFR part 6300.

James M. Fincher,
Boise District Manager.
Michael Courtney,
Twin Falls District Manager.

[FR Doc. 2015-08928 Filed 4-17-15; 8:45 am]

BILLING CODE 4310-GG-P